DEPARTMENT OF AGRICULTURE

Submission for OMB Review; Comment Request

January 20, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Food and Nutrition Service Evaluation of the Fresh Fruit and Vegetable Program (FFVP).

OMB Control Number: 0584-NEW.

Summary of Collection: The Food, Conservation and Energy Act of 2008 (the Farm Bill) (Pub. L. 110-246) expanded the Fresh Fruit and Vegetable Program (FFVP) nationwide and directed the Food and Nutrition Service (FNS) to conduct an evaluation resulting in a report to Congress in September 2011. The FFVP administered by FNS has the broad goal of fighting childhood obesity and improving overall diet quality by teaching children healthier eating habits. Increased consumption of fruits and vegetables has been found to reduce long-term obesity risk. Specific objectives of the FFVP are: To create healthier school environments by providing healthier food choices; to expand the variety of fruits and vegetables children experience; to increase children's fruit and vegetable consumption; and to make a difference in children's diets to impact their present and future health.

Need and Use of the Information: The evaluation of the FFVP has two main objectives: (1) To examine how the FFVP is currently being implemented, and (2) to estimate program impacts on participating students. To address these objectives, FNS has 36 research questions that will be grouped into six broad research categories for the evaluation. The information gathered in the data collection activities will be used by FNS to determine if students at FFVP schools have higher fresh fruits and vegetable consumption than students at non-participating schools, and whether FFVP induced other dietary changes such as decreased consumption of less nutritious foods among students.

Description of Respondents: State, Local, or Tribal Government; Individuals or households.

Number of Respondents: 18,854.

Frequency of Responses: Recordkeeping; Report: Annually.

Total Burden Hours: 8,478.

Ruth Brown,
Departmental Information Collection Clearance Officer.

[FR Doc. 2010-1355 Filed 1-22-10; 8:45 am]

BILLING CODE 3410-30-P